DEPARTMENT OF THE INTERIOR

Fish and Wildlife Service

[FWS-R1-ES-2009-N231] [10120-1113-0000-F5]

Endangered Wildlife and Plants; Permits

AGENCY: Fish and Wildlife Service, Interior.

ACTION: Notice of availability of permit applications; request for comments.

SUMMARY: We, the U.S. Fish and Wildlife Service (Service), invite the public to comment on applications for permits to conduct enhancement of survival activities with endangered species. The Endangered Species Act of 1973, as amended (Act) requires that we solicit public comment on these permit applications involving endangered species.

DATES: To ensure consideration, please send your written comments by January 11, 2010.

ADDRESSES: Program Manager, Endangered Species, Ecological Services, U.S. Fish and Wildlife Service, 911 NE. 11th Avenue, Portland, OR 97232-4181.

FOR FURTHER INFORMATION CONTACT: Linda Belluomini, Fish and Wildlife Biologist, at the above address or by telephone (503-231-6131) or fax (503-231-6243).

SUPPLEMENTARY INFORMATION: The following applicants have applied for recovery permits to conduct certain activities with endangered species under section 10(a)(1)(A) of the Act (16 U.S.C. 1531 et seq.). We are soliciting review of and comment on these applications by local, State, and Federal agencies and the public.

Permit No. TE-225693

Applicant: Amy B.H. Greenwell Ethnobotanical Garden, Captain Cook, Hawaii.

The applicant requests a permit to remove and reduce to possession Prithchardia affinis (loulu) in conjunction with seed collection and phenology studies on National Park Service land on the island of Hawaii in the State of Hawaii, for the purpose of enhancing its survival.

Permit No. TE-003483

Applicant: U.S. Geological Survey, Biological Resources Division, Pacific Island Ecosystems Research Center, Honolulu, Hawaii.

The permittee requests a permit amendment to remove and reduce to possession (collect) Cyanea glabra (haha) and Pritchardia affinis (loulu) in conjunction with assessing genetic diversity and population structure on the islands of Hawaii and Maui in the State of Hawaii for the purpose of enhancing their survival.

Public Comments

Please refer to the permit number for the applications when submitting comments.

We are soliciting public review and comment on these recovery permit applications. Before including your address, phone number, e-mail address, or other personal identifying information in your comment, you should be aware that your entire comment—including your personal identifying information—may be made publicly available at any time. While you can ask us in your comment to withhold your personal identifying information from public review, we cannot guarantee that we will be able to do so.

All comments and materials we receive in response to this request will be available for public inspection, by appointment, during normal business hours at the above address.

Dated: November 16, 2009.
David J. Wesley,
Regional Director, Region 1, U.S. Fish and Wildlife Service.

[FR Doc. E9-29433 Filed 12-9-09; 8:45 am]

BILLING CODE 4310-55-P